FEDERAL COMMUNICATIONS COMMISSION

[DA 14-1737]

Federal Advisory Committee Act; Disability Advisory Committee

AGENCY: Federal Communications Commission.

ACTION: Announcement of committee; solicitation of applications and membership.

SUMMARY: In accordance with the Federal Advisory Committee Act, the Federal Communications Commission (Commission) announces its intent to establish a Federal Advisory Committee, known as the “Disability Advisory Committee” (hereinafter “the Committee” or “DAC”), and to solicit nominations for membership to the Committee.

DATES: Please submit applications as soon as possible, but no later than January 12, 2015.

ADDRESSES: Federal Communications Commission, 445 12th Street SW., Washington, DC 20554.

FOR FURTHER INFORMATION CONTACT: E. Elaine Gardner, Designated Federal Officer, Federal Communications Commission, Consumer and Governmental Affairs Bureau, (202) 418-0581, or email: Elaine.Gardner@fcc.gov.

SUPPLEMENTARY INFORMATION: Applications and nominations for membership, including a statement of qualifications as noted below, should be submitted by email to the Federal Communications Commission at DAC@fcc.gov.

Background

The Chairman of the Commission has determined that the establishment of the Committee is necessary and in the public interest in connection with the performance of duties imposed on the Commission by law, and the Committee Management Secretariat, General Service Administration concurs with the establishment of the Committee. The purpose of the Committee is to provide advice, technical support, and recommended proposals to the Commission on the full range of disability access issues within the Commission's jurisdiction. This Committee will also provide a means for stakeholders with interests in accessibility issues to exchange ideas, facilitate the participation of consumers with disabilities in proceedings before the Commission, and assist the Commission in educating the greater disability community and covered entities on disability-related matters. Issues or questions to be considered by the Committee may include, but are not limited to the following:

• Telecommunications relay services;

• Closed captioning;

• Video description;

• Access to televised emergency information;

• Access to video programming apparatus;

• Access to telecommunications services and equipment;

• Access to advanced communications services and equipment;

• Hearing aid compatibility;

• Access to 9-1-1 emergency services;

• The National Deaf-Blind Equipment Distribution Program; and

• The impact of IP and other network transitions on people with disabilities.

Advisory Committee

The Committee will be organized under, and will operate in accordance with, the provisions of the Federal Advisory Committee Act (FACA) (5 U.S.C. App. 2). The Committee will be solely advisory in nature. Consistent with FACA and its requirements, each meeting of the Committee will be open to the public unless otherwise noticed. A notice of each meeting will be published in the Federal Register at least fifteen (15) days in advance of the meeting. Records will be maintained of each meeting and made available for public inspection. All activities of the Committee will be conducted in an open, transparent and accessible manner. The Committee shall terminate two (2) years from the renewal date of its charter, unless its charter is being renewed prior to the termination date.

During the Committee's first term, it is anticipated that the Committee will meet in Washington, DC for at least three (3) one-day meetings. The first meeting date and agenda topics will be described in a Public Notice issued and published in the Federal Register at least fifteen (15) days prior to the first meeting date. In addition, as needed, working groups or subcommittees (ad hoc or steering) will be established to facilitate the Committee's work between meetings of the full Committee. All meetings, including working groups and subcommittees, will be fully accessible to individuals with disabilities.

Application for Advisory Committee Appointment

The Chairman is seeking nominations to fill approximately 25 membership vacancies, with a term up to two (2) years. The Commission seeks applications from representatives of interested organizations, institutions, or other entities from both the public and private sectors that wish to be considered for membership on the Committee. The Commission is particularly interested in receiving nominations and expressions of interest from individuals and organizations representing the following categories:

• Individuals, organizations and other entities representing people with disabilities, including people who are blind and visually impaired, people who are deaf or hard of hearing, people with intellectual disabilities, people with multiple disabilities, including those who are deaf-blind, people with speech disabilities, and people with mobility disabilities;

• Individuals, organizations and other entities with a particular interest in the accessibility needs of children and senior citizens with disabilities; Communications service providers, including TRS providers, wireline and wireless communications service providers; equipment manufacturers, video programming providers, owners, distributors and manufacturers; voice over Internet protocol and other IP-enabled service providers and manufacturers; researchers; educators; and accessible design developers and inventors;

• Federal government agencies;

• State and local government agencies; and

• Qualified representatives of other stakeholders and interested parties with relevant experience.

Selections will be made on the basis of factors such as expertise and diversity of viewpoints that are necessary to address effectively the questions before the Committee. Individuals who do not represent an organization, institution, or entity, but who possess expertise valuable to the Committee's work are also welcome to apply. If appointed, such individuals would serve as Special Government Employees (SGEs) subject to conflict of interest rules, financial disclosure requirements, and limitations on financial holdings similar to those applicable to regular agency employees. In addition, under current White House guidance, such individuals (unlike those who are serving in a representative capacity) cannot be registered federal lobbyists. Committee members will not be compensated for their service. Members must be willing to commit to a two (2) year term of service, should be willing and able to attend at least three (3) one-day plenary committee meetings during each year of the Committee's term, and are also encouraged to participate in deliberations of at least one (1) subcommittee or working group for which they have interest and qualifications. The time commitment for participation in any subcommittee or working group may be substantial. However, subcommittee and working group meetings may be conducted informally, using suitable technology to facilitate the meetings, subject to oversight by the Designated Federal Official of the DAC.

Application Procedure, Deadline and Member Appointments

Nominations should be received by the Commission as soon as possible, but no later than January 12, 2015. No specific nomination form is required; however, each nomination must include the following information:

• Name, title, and organization of the nominee and a description of the organization, sector or other interest the nominee will represent;

• Nominee's mailing address, email address, and telephone number;

• A statement summarizing the nominee's qualifications (including relevant experience and expertise) and reasons why the nominee should be appointed to the Committee. To the extent the nominee will represent a specific organization, the statement should also include a description of the organization as well as the benefit of having the organization represented on the Committee;

• A statement confirming that the nominee is not a registered federal lobbyist, if seeking appointment for the individual's expertise and not as a representative of an organization or entity; and

• The specific subcommittee(s), if any, on which the nominee has an interest in serving, along with the nominee's qualifications to serve on such subcommittee. If indicating more than one subcommittee, the nominee should list these in order of preference.

For applicants seeking to represent an organization or company, the applicant's nomination to the Committee must be confirmed by an authorized person (e.g., organization or company official) confirming that the organization or company wants the nominated person to represent it on the Committee.

Nominations, including all information outlined herein, should be submitted by email to DAC@fcc.gov. Nominations should be submitted by January 12, 2015.

Please note this Notice is not intended to be the exclusive method by which the Commission will solicit nominations and expressions of interest to identify qualified candidates; however, all candidates for membership on the Committee will be subject to the same evaluation criteria.

After the applications have been reviewed, the Commission will publish a notice in the Federal Register announcing the appointment of Committee members and the first meeting of the Committee. Members serve at the discretion of the Chairman of the Commission and must be willing to commit to serve for a period of two (2) years from the date of establishment of the Committee.

Accessible Formats: To request materials in accessible formats for people with disabilities (Braille, large print, electronic files, audio format), send an email to fcc504@fcc.gov or call the Consumer and Governmental Affairs Bureau at (202) 418-0530 (voice), or call ASL Consumer Support Line at (844) 432-2275 via videophone.

Federal Communications Commission.
Karen Peltz Strauss,
Deputy Chief, Consumer and Governmental Affairs Bureau.

[FR Doc. 2014-28996 Filed 12-9-14; 8:45 am]

BILLING CODE 6712-01-P